DEPARTMENT OF HOUSING AND URBAN DEVELOPMENT

[Docket No. FR-4809-N-18]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Mark Johnston, room 7266, Department of Housing and Urban Development, 451 Seventh Street SW., Washington, DC 20410; telephone (202) 7078-1234; TTY number for the hearing- and speech-impaired (202) 708-2565 (these telephone numbers are not toll-free), or call the toll-free Title V information line at 1-800-927-7588.

SUPPLEMENTARY INFORMATION: In accordance with 24 CFR part 581 and section 501 of the Steward B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Shirley Kramer, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Ms. Julie Jones-Conte, Department of the Army, Office of the Assistant Chief of Staff for Installation Management, Attn: DAIM-MD, Room 1E677, 600 Army Pentagon, Washington, DC 20310-600; (703) 692-9223; COE: Ms. Shirley Middleswarth, Army Corps of Engineers, Civil Division, Directorate of Real Estate, 441 G Street, NW., Washington, DC 20314-1000; (202) 761-7425; DOT: Mr. Rugene Spruill, DOT Headquarters Project Team, Department of Transportation, 400 7th Street, SW., Room 10314, Washington, DC 20590; (202) 366-4246; Energy: Mr. Tom Knox, Department of Energy, Office of Engineering & Construction Management, CR-80, Washington, DC 20585; (202) 586-8715; GSA: Mr. Brian K. Polly, Assistant Commissioner, General Services Administration, Office of Property Disposal, 18th and F Streets, NW., Washington, DC 20405; (202) 501-0052; Interior: Ms. Linda Tribby, Acquisition & Property Management, Department of the Interior, 1849 C Street, NW., MS5512, Washington, DC 20240; (202) 219-0728; Navy: Mr. Charles C. Cocks, Director, Department of the Navy, Real Estate Policy Division, Naval Facilities Engineering Command, Washington Navy Yard, 1322 Patterson Ave., SE., Suite 1000, Washington, DC 20374-5065; (202) 685-9200 (These are not toll-free numbers).

Dated: April 24, 2003.
John D. Garrity,
Director, Office of Special Needs Assistance Programs.

Title V, Federal Surplus Property Program Federal Register Report for 5/2/03

Suitable/Available Properties

Buildings (by State)

Texas

Tract No. 105-70

San Antonio Mission

San Antonio Co: Bexar TX 78223-

Landholding Agency: Interior

Property Number: 61200320001

Status: Unutilized

Comment: 2056 sq. ft., most recent use—residential, historical significance, off-site use only

Land (by State)

Alaska

37.109 acres

U.S. Coast Guard

Gibson Cove Co: Kodiak AK

Landholding Agency: GSA

Property Number: 54200320001

Status: Surplus

Comment: Easements for highway, electrical and communication lines, historical landmark

GSA Number: 9-U-AK-783

Georgia

Land w/highway interchange

Fort Benning

I-185 and Hwy 27/280

Columbus Co: Muscogee GA 31905-

Landholding Agency: GSA

Property Number: 54200320002

Status: Excess

Comment: 113 acres—98 acres of this land encumbered by highway interchange

GSA Number: 4-D-GA-0872

North Carolina

Oak Island Light Tower

Caswell Beach Co: Brunswick NC 28465-

Landholding Agency: GSA

Property Number: 54200320003

Status: Excess

Comment: 5.36 acres w/light tower, endangered species and wetlands, controlled access

GSA Number: 4-U-NC-742

Texas

Former VORTAC Facility

Bridgeport Co: Wise TX

Landholding Agency: GSA

Property Number: 54200320006

Status: Surplus

Comment: 0.23 acres w/73.34 acres of easements, limited access

GSA Number: 7-U-TX-1072

Unsuitable Properties

Buildings (by State)

Alabama

Bldg. 03437

Redstone Arsenal

Redstone Arsenal Co: Madison AL 35898-5000

Landholding Agency: Army

Property Number: 21200320006

Status: Unutilized

Reasons: Secured Area; Extensive deterioration

Alaska

Bldgs. 1209, 1234, 1237, 1272

Fort Richardson

Ft. Richardson Co: AK 99505-6500

Landholding Agency: Army

Property Number: 21200320001

Status: Excess

Reasons: Extensive deterioration

Bldgs. 15182, 17112

Fort Richardson

Ft. Richardson Co: AK 99505-6500

Landholding Agency: Army

Property Number: 21200320002

Status: Excess

Reasons: Extensive deterioration

5 Bldgs.

Fort Richardson

17301, 17302, 17303, 17305, 17312

Ft. Richardson Co: AK 99505-6500

Landholding Agency: Army

Property Number: 21200320003

Status: Excess

Reason: Extensive deterioration

Bldgs. 18101, 19101

Fort Richardson

Ft. Richardson Co: AK 99505-6500

Landholding Agency: Army

Property Number: 21200320004

Status: Excess

Reason: Extensive deterioration

Bldgs. 1501, 1502

Fort Wainwright

Ft. Wainwright Co: AK 99505-6500

Landholding Agency: Army

Property Number: 21200320005

Status: Excess

Reason: Extensive deterioration

Warehouse

Naval Arctic Research Lab

Cape Sabine Co: AK

Landholding Agency: Navy

Property Number: 77200320001

Status: Excess

Reason: Extensive deterioration

Operations Bldg.

Naval Arctic Research Lab

Cape Sabine Co: AK

Landholding Agency: Navy

Property Number: 77200320002

Status: Excess

Reason: Extensive deterioration

Guam

Bldgs. 23, 25, 29

US Naval Ship Repair Facility

Marianas Co: GU

Landholding Agency: Navy

Property Number: 77200320003

Status: Unutilized

Reasons: Secured Area; Extensive deterioration

Bldgs. 31, 36, 38

US Naval Ship Repair Facility

Marianas Co: GU

Landholding Agency: Navy

Property Number: 77200320004

Status: Unutilized

Reasons: Secured Area; Extensive deterioration

Bldgs. 93-1, 94

US Naval Ship Repair Facility

Marianas Co: GU

Landholding Agency: Navy

Property Number: 77200320005

Status: Unutilized

Reasons: Secured Area; Extensive deterioration

Bldgs. 2001A, 2004

US Naval Ship Repair Facility

Marianas Co: GU

Landholding Agency: Navy

Property Number: 77200320006

Status: Unutilized

Reasons: Secured Area; Extensive deterioration

Bldgs. 2008, 2062

US Naval Ship Repair

Facility

Marianas Co: GU

Landholding Agency: Navy

Property Number: 77200320007

Status: Unutilized

Reasons: Secured area; Extensive deterioration

Bldgs. 2010, 2013, 2028

US Naval Ship Repair

Facility

Marianas Co: GU

Landholding Agency: Navy

Property Number: 77200320008

Status: Unutilized

Reasons: Secured Area; Extensive deterioration

Bldgs. 2039-2044

US Naval Ship Repair

Facility

Marianas Co: GU

Landholding Agency: Navy

Property Number: 77200320009

Status: Unutilized

Reasons: Secured Area; Extensive deterioration

Bldg. 2049

US Naval Ship Repair

Facility

Marianas Co: GU

Landholding Agency: Navy

Property Number: 77200320010

Status: Unutilized

Reasons: Secured Area; Extensive deterioration

Bldgs. 2053, 2054, 2055

US Naval Ship Repair

Facility

Marianas Co: GU

Landholding Agency: Navy

Property Number: 77200320011

Status: Unutilized

Reasons: Secured Area; Extensive deterioration

Bldgs. 2061, 2068, 2069

US Naval Ship Repair

Facility

Marianas Co: GU

Landholding Agency: Navy

Property Number: 77200320012

Status: Unutilized

Reasons: Secured Area; Extensive deterioration

Bldgs. 2070, 2071, 2074

US Naval Ship Repair

Facility

Marianas Co: GU

Landholding Agency: Navy

Property Number: 77200320013

Status: Unutilized

Reasons: Secured Area; Extensive deterioration

Bldg. 2081

US Naval Ship Repair

Facility

Marianas Co: GU

Landholding Agency: Navy

Property Number: 77200320014

Status: Unutilized

Reasons: Secured Area; Extensive deterioration

Bldgs. 2100, 2102

US Naval Ship Repair

Facility

Marianas Co: GU

Landholding Agency: Navy

Property Number: 77200320015

Status: Unutilized

Reasons: Secured Area; Extensive deterioration

Hawaii

Bldgs. A0695, A0697

Schofield Barracks

Wahiawa Co: Honolulu HI 96786-

Landholding Agency: Army

Property Number: 21200320007

Status: Unutilized

Reason: Extensive deterioration

Bldg. A0698

Schofield Barracks

Wahiawa Co: Honolulu HI 96786-

Landholding Agency: Army

Property Number: 21200320008

Status: Unutilized

Reason: Extensive deterioration

Bldgs. A3010, H3010

Schofield Barracks

Wahiawa Co: Honolulu HI 96786-

Landholding Agency: Army

Property Number: 21200320009

Status: Unutilized

Reason: Extensive deterioration

Bldg. A0046

Fort Shafter

Honolulu Co: 96818-

Landholding Agency: Army

Property Number: 21200320010

Status: Unutilized

Reason: Extensive deterioration

Illinois

Bldgs. 111, 145

Col. Schulstad Memorial USARC

Arlington Heights Co: Cook IL 60005-2475

Landholding Agency: Army

Property Number: 21200320012

Status: Unutilized

Reason: Extensive deterioration

Indiana

Bldg. 300

Fort Benjamin Harrison

Indianapolis Co: Marion IN 46216-

Landholding Agency: Army

Property Number: 21200320011

Status: Unutilized

Reason: contamination

Kentucky

Bldgs. 01138, 01142, 01144

Fort Knox

Ft. Knox Co: Hardin KY 40121-

Landholding Agency: Army

Property Number: 21200320013

Status: Unutilized

Reason: Extensive deterioration

Bldgs. 04265, 04278

Fort Knox

Ft. Knox Co: Hardin KY 40121-

Landholding Agency: Army

Property Number: 21200320014

Status: Unutilized

Reason: Extensive deterioration

Bldg. 2912

Fort Campbell

Christian Co: KY 42223-

Landholding Agency: Army

Property Number: 21200320015

Status: Unutilized

Reason: Extensive deterioration

Bldgs. 3106, 3107, 3108

Fort Campbell

Christian Co: KY 42223-

Landholding Agency: Army

Property Number: 21200320016

Status: Unutilized

Reason: Extensive deterioration

Bldgs. 3107, 3112

Fort Campbell

Christian Co: KY 42223-

Landholding Agency: Army

Property Number: 21200320017

Status: Unutilized

Reason: Extensive deterioration

Bldg. 3601

Fort Campbell

Christian Co: KY 42223-

Landholding Agency: Army

Property Number: 21200320018

Status: Unutilized

Reason: Extensive deterioration

Bldgs. 5846, 5848

Fort Campbell

Christian Co: KY 42223-

Landholding Agency: Army

Property Number: 21200320019

Status: Unutilized

Reason: Extensive deterioration

Bldgs. 5852, 5854, 5856

Fort Campbell

Christian Co: KY 42223-

Landholding Agency: Army

Property Number: 21200320020

Status: Unutilized

Reason: Extensive deterioration

Bldgs. 5908, 5913, 5916

Fort Campbell

Christian Co: KY 42223-

Landholding Agency: Army

Property Number: 21200320021

Status: Unutilized

Reason: Extensive deterioration

Bldgs. 5918, 5920, 5922

Fort Campbell

Christian Co: KY 42223-

Landholding Agency: Army

Property Number: 21200320022

Status: Unutilized

Reason: Extensive deterioration

Bldg. 5926

Fort Campbell

Christian Co: KY 42223-

Landholding Agency: Army

Property Number: 21200320023

Status: Unutilized

Reason: Extensive deterioration

Maryland

Bldg. 00211

Curtis Bay Ordnance Depot

Baltimore Co: MD 21226-1790

Landholding Agency: Army

Property Number: 21200320024

Status: Unutilized

Reason: Extensive deterioration

Michigan

Buoy Shed

U.S. Coast Guard Station

Sault Ste. Marie Co: Chippewa MI 49783-9501

Landholding Agency: DOT

Property Number: 87200320001

Status: Excess

Reason: Secured Area

Missouri

Bldgs. 02200, 02205, 02223

Fort Leonard Wood

Ft. Leonard Wood Co: Pulaski Mo 65743-8944

Landholding Agency: Army

Property Number: 21200320025

Status: Unutilized

Reason: Extensive deterioration

Bldg. 05067

Fort Leonard Wood

Ft. Leonard Wood Co: Pulaski MO 65743-8944

Landholding Agency: Army

Property Number: 21200320026

Status: Unutilized

Reason: Extensive deterioration

Bldgs. 05237, 05238

Fort Leonard Wood

Ft. Leonard Wood Co: Pulaski MO 65743-8944

Landholding Agency: Army

Property Number: 21200320027

Status: Unutilized

Reason: Extensive deterioration

Bldgs. 05307, 05308

Fort Leonard Wood

Ft. Leonard Wood Co: Pulaski MO 65743-8944

Landholding Agency: Army

Property Number: 21200320028

Status: Unutilized

Reason: Extensive deterioration

Bldgs. 05353, 05381

Fort Leonard Wood

Ft. Leonard Wood Co: Pulaski MO 65743-8944

Landholding Agency: Army

Property Number: 21200320029

Status: Unutilized

Reason: Extensive deterioration

Bldg. 06126

Fort Leonard Wood

Ft. Leonard Wood Co: Pulaski MO 65743-8944

Landholding Agency: Army

Property Number: 21200320030

Status: Unutilized

Reason: Extensive deterioration

Bldg. 12706

Fort Leonard Wood

Ft. Leonard Wood Co: Pulaski MO 65743-8944

Landholding Agency: Army

Property Number: 21200320031

Status: Unutilized

Reason: Extensive deterioration

Bldgs. 13603, 13604

Fort Leonard Wood

Ft. Leonard Wood Co: Pulaski MO 65743-8944

Landholding Agency: Army

Property Number: 21200320032

Status: Unutilized

Reason: Extensive deterioration

New Jersey

Bldgs. T4440, P4460

Fort Dix

Ft. Dix Co: Burlington NJ 08640-5506

Landholding Agency: Army

Property Number: 21200320034

Status: Unutilized

Reason: Extensive deterioration

New York

Bldg. 00191

Fort Drum

Ft. Drum Co: Jefferson NY 13602-

Landholding Agency: Army

Property Number: 21200320035

Status: Unutilized

Reason: Extensive deterioration

Bldg. 00687

Fort Drum

Ft. Drum Co: Jefferson NY 13602-

Landholding Agency: Army

Property Number: 21200320036

Status: Unutilized

Reason: Extensive deterioration

Bldgs. 02314, 02315, 02316

Fort Drum

Ft. Drum Co: Jefferson NY 13602-

Landholding Agency: Army

Property Number: 21200320037

Status: Unutilized

Reason: Extensive deterioration

Bldgs. 21684, 21694

Fort Drum

Ft. Drum Co: Jefferson NY 13602-

Landholding Agency: Army

Property Number: 21200320038

Status: Unutilized

Reason: Extensive deterioration

Bldg. 21848

Fort Drum

Ft. Drum Co: Jefferson NY 13602-

Landholding Agency: Army

Property Number: 21200320039

Status: Unutilized

Reason: Extensive deterioration

Bldgs. 444, 445

Brookhaven National Lab

Upton Co: Suffolk NY 11973-

Landholding Agency: Energy

Property Number: 41200320001

Status: Excess

Reasons: Contamination; Extensive deterioration

Bldgs. 446, 447, 448

Brookhaven National Lab

Upton Co: Suffolk NY 11973-

Landholding Agency: Energy

Property Number: 41200320002

Status: Excess

Reasons: Contamination; Extensive deterioration

Bldg. 483

Brookhaven National Lab

Upton Co: Suffolk NY 11973-

Landholding Agency: Energy

Property Number: 41200320003

Status: Excess

Reason: Contamination

North Carolina

Bldg. 14

Military Ocean Terminal

Southport Co: Brunswick NC 28461-

Landholding Agency: Army

Property Number: 21200320033

Status: Excess

Reason: Extensive deterioration

10 Facilities

Wilkes County Recreation Area

Wilkesboro Co: NC

Landholding Agency: COE

Property Number: 31200320001

Status: Unutilized

Reason: Extensive deterioration

Ohio

61 Bldgs.

Ravenna Army Ammo Plant

Misc/Load Line 9, 2, 3, 4, 7, 10

Ravenna Co: Portage OH 44266-9297

Landholding Agency: Army

Property Number: 21200320040

Status: Excess

Reasons: Within 2000 ft. of flammable or explosive material; Secured Area; Extensive deterioration.

21 Bldgs.

Ravenna Army Ammo Plant

Load Line 11

Ravenna Co: Portage OH 44266-9297

Landholding Agency: Army

Property Number: 21200320041

Status: Excess

Reasons: Within 2000 ft. of flammable or explosive material; Secured Area; Extensive deterioration.

19 Bldgs.

Ravenna Army Ammo Plant

Load Line 8

Ravenna Co: Portage OH 44266-9297

Landholding Agency: Army

Property Number: 21200320042

Status: Excess

Reasons: Within 2000 ft. of flammable or explosive material; Secured Area; Extensive deterioration.

24 Bldgs.

Ravenna Army Ammo Plant

Load Line 7

Ravenna Co: Portage OH 44266-9297

Landholding Agency: Army

Property Number: 21200320043

Status: Excess

Reasons: Within 2000 ft. of flammable or explosive material; Secured Area; Extensive deterioration.

23 Bldgs.

Ravenna Army Ammo Plant

Load Line 5

Ravenna Co: Portage OH 44266-9297

Landholding Agency: Army

Property Number: 21200320044

Status: Excess

Reasons: Within 2000 ft. of flammable or explosive material; Secured Area; Extensive deterioration.

30 Bldgs.

Ravenna Army Ammo Plant

Load Line 4

Ravenna Co: Portage OH 44266-9297

Landholding Agency: Army

Property Number: 21200320045

Status: Excess

Reasons: Within 2000 ft. of flammable or explosive material; Secured Area; Extensive deterioration.

Oregon

Federal Building

256 Warner-Milne Road

Oregon City Co: OR 97045-

Landholding Agency: GSA

Property Number: 54200320004

Status: Surplus

Reason: Within 2000 ft. of flammable or explosive material GSA Number: 9-G-OR-740

Coos Head Air National Guard S.

Charleston Co: OR

Landholding Agency: GSA

Property Number: 54200320005

Status: Excess

Reasons: Within 2000 ft. of flammable or explosive material; Extensive deterioration,

GSA Number: 9-D-OR-538E

South Carolina

17 Bldgs. Naval Weapons Station

Goose Creek Co: Berkeley SC 29445-

Landholding Agency: Navy

Property Number: 77200320017

Status: Unutilized

Reasons: Within 2000 ft. of flammable or explosive material; Secured Area

Tennessee

Bldgs. 2180, 2429

Fort Campbell

Montgomery Co: TN 42223-

Landholding Agency: Army

Property Number: 21200320046

Status: Unutilized

Reason: Extensive deterioration

Bldgs. 2517, 2519

Fort Campbell

Montgomery Co: TN 42223-

Landholding Agency: Army

Property Number: 21200320047

Status: Unutilized

Reason: Extensive deterioration

Bldgs. 2531, 2533, 2535

Fort Campbell

Montgomery Co: TN 42223-

Landholding Agency: Army

Property Number: 21200320048

Status: Unutilized

Reason: Extensive deterioration

Bldgs. 2550, 2552, 2554

Fort Campbell

Montgomery Co: TN 42223-

Landholding Agency: Army

Property Number: 21200320049

Status: Unutilized

Reason: Extensive deterioration

Bldgs. 2615, 2617, 2636

Fort Campbell

Montgomery Co: TN 42223-

Landholding Agency: Army

Property Number: 21200320050

Status: Unutilized

Reason: Extensive deterioration

Bldgs. 2625, 2627, 2746

Fort Campbell

Montgomery Co: TN 42223-

Landholding Agency: Army

Property Number: 21200320051

Status: Unutilized

Reason: Extensive deterioration

Bldgs. 2642, 2646, 2648

Fort Campbell

Montgomery Co: TN 42223-

Landholding Agency: Army

Property Number: 21200320052

Status: Unutilized

Reason: Extensive deterioration

Bldgs. C-1, C-3, C-5, C-7, C-9

Holston Army Ammo Plant

Kingsport Co: Hawkins TN 37660-

Landholding Agency: Army

Property Number: 21200320053

Status: Excess

Reasons: Within 2000 ft. of flammable or explosive material; Secured Area; Extensive deterioration

Bldgs. D-1, D-2, D-6, thru D-10

Holston Army Ammo Plant

Kingsport Co: Hawkins TN 37660-

Landholding Agency: Army

Property Number: 21200320054

Status: Excess

Reasons: Within 2000 ft. of flammable or explosive material; Secured Area; Extensive deterioration

6 Bldgs.

Holston Army Ammo Plant

E-1, E-2, E-5, E-7 thru E-9

Kingsport Co: Hawkins TN 37660-

Landholding Agency: Army

Property Number: 21200320055

Status: Excess

Reasons: Within 2000 ft. of flammable or explosive material; Secured Area; Extensive deterioration

Bldgs. G-1, G-2, G-3, G-9

Holston Army Ammo Plant

Kingsport Co: Hawkins TN 37660-

Landholding Agency: Army

Property Number: 21200320056

Status: Excess

Reasons: Within 2000 ft. of flammable or explosive material; Secured Area; Extensive deterioration

5 Bldgs.

Holston Army Ammo Plant

H-1, thru H-3, H-9, H-10

Kingsport Co: Hawkins TN 37660-

Landholding Agency: Army

Property Number: 21200320057

Status: Excess

Reasons: Within 2000 ft. of flammable or explosive material; Secured Area; Extensive deterioration

5 Bldgs.

Holston Army Ammo Plant

I-1, I-2, I-7, I-8, I-9

Kingsport Co: Hawkins TN 37660-

Landholding Agency: Army

Property Number: 21200320058

Status: Excess

Reasons: Within 2000 ft. of flammable or explosive material; Secured Area; Extensive deterioration

Bldgs. K-1, K-7, K-9

Holston Army Ammo Plant

Kingsport Co: Hawkins TN 37660-

Landholding Agency: Army

Property Number: 21200320059

Status: Excess

Reasons: Within 2000 ft. of flammable or explosive material; Secured Area; Extensive deterioration

Bldgs. L-1M, L-2, L-9

Holston Army Ammo Plant

Kingsport Co: Hawkins TN 37660-

Landholding Agency: Army

Property Number: 21200320060

Status: Excess

Reasons: Within 2000 ft. of flammable or explosive material; Secured Area; Extensive deterioration

Bldgs. O-1, O-7, O-9

Holston Army Ammo Plant

Kingsport Co: Hawkins TN 37660-

Landholding Agency: Army

Property Number: 21200320061

Status: Excess

Reasons: Within 2000 ft. of flammable or explosive material; Secured Area; Extensive deterioration

Bldgs. J-2, J-6 thru J-9

Holston Army Ammo Plant

Kingsport Co: Hawkins TN 37660-

Landholding Agency: Army

Property Number: 21200320062

Status: Excess

Reasons: Within 2000 ft. of flammable or explosive material; Secured Area; Extensive deterioration.

Bldgs. M-2, M-7, M-9

Holston Army Ammo Plant

Kingsport Co: Hawkins TN 37660-

Landholding Agency: Army

Property Number: 21200320063

Status: Excess

Reasons: Within 2000 ft. of flammable or explosive material; Secured Area; Extensive deterioration.

Bldgs. U-2

Holston Army Ammo Plant

Kingsport Co: Hawkins TN 37660-

Landholding Agency: Army

Property Number: 21200320064

Status: Excess

Reasons: Within 2000 ft. of flammable or explosive material; Secured Area; Extensive deterioration.

Bldgs. P-3, P-7

Holston Army Ammo Plant

Kingsport Co: Hawkins TN 37660-

Landholding Agency: Army

Property Number: 21200320065

Status: Excess

Reasons: Within 2000 ft. of flammable or explosive material; Secured Area; Extensive deterioration.

Bldgs. 4, A-5, B-5, B-9

Holston Army Ammo Plant

Kingsport Co: Hawkins TN 37660-

Landholding Agency: Army

Property Number: 21200320066

Status: Excess

Reasons: Within 2000 ft. of flammable or explosive material; Secured Area; Extensive deterioration.

Bldgs. C-6, N-9, N-10, V-10

Holston Army Ammo Plant

Kingsport Co: Hawkins TN 37660-

Landholding Agency: Army

Property Number: 21200320067

Status: Excess

Reasons: Within 2000 ft. of flammable or explosive material; Secured Area; Extensive deterioration.

Bldgs. A14, A20, A28

Holston Army Ammo Plant

Kingsport Co: Hawkins TN 37660-

Landholding Agency: Army

Property Number: 21200320068

Status: Excess

Reasons: Within 2000 ft. of flammable or explosive material; Secured Area; Extensive deterioration.

Bldgs. 109, 152

Holston Army Ammo Plant

Kingsport Co: Hawkins TN 37660-

Landholding Agency: Army

Property Number: 21200320069

Status: Excess

Reasons: Within 2000 ft. of flammable or explosive material; Secured Area; Extensive deterioration.

5 Bldgs.

Holston Army Ammo Plant 209, 221, 222, 228, 230

Kingsport Co: Hawkins TN 37660-

Landholding Agency: Army

Property Number: 21200320070

Status: Excess

Reasons: Within 2000 ft. of flammable or explosive material; Secured Area; Extensive deterioration.

4 Bldgs.

Holston Army Ammo Plant 301, 303B, 304, 312

Kingsport Co: Hawkins TN 37660-

Landholding Agency: Army

Property Number: 21200320071

Status: Excess

Reasons: Within 2000 ft. of flammable or explosive material; Secured Area; Extensive deterioration.

4 Bldgs.

Holston Army Ammo Plant 333, 336, 343, 345

Kingsport Co: Hawkins TN 37660-

Landholding Agency: Army

Property Number: 21200320072

Status: Excess

Reasons: Within 2000 ft. of flammable or explosive material; Secured Area; Extensive deterioration.

Bldgs. 401, 408

Holston Army Ammo Plant

Kingsport Co: Hawkins TN 37660-

Landholding Agency: Army

Property Number: 21200320073

Status: Excess

Reasons: Within 2000 ft. of flammable or explosive material; Secured Area; Extensive deterioration.

Bldgs. 549, 558

Holston Army Ammo Plant

Kingsport Co: Hawkins TN 37660-

Landholding Agency: Army

Property Number: 21200320074

Status: Excess

Reasons: Within 2000 ft. of flammable or explosive material; Secured Area; Extensive deterioration.

Texas

Bldgs. 1378, 2019

Fort Bliss

El Paso Co: TX 79916-

Landholding Agency: Army

Property Number: 21200320075

Status: Unutilized

Reason: Extensive deterioration.

Bldgs. 2650, 2651

Fort Bliss

El Paso Co: TX 79916-

Landholding Agency: Army

Property Number: 21200320076

Status: Unutilized

Reason: Extensive deterioration.

Bldgs. 9814, 9866, 9887

Fort Bliss

El Paso Co: TX 79916-

Landholding Agency: Army

Property Number: 21200320077

Status: Unutilized

Reason: Extensive deterioration.

4 Bldgs.

Fort Bliss

9890, 9892, 9893, 9894

El Paso Co: TX 79916-

Landholding Agency: Army

Property Number: 21200320078

Status: Unutilized

Reason: Extensive deterioration.

Bldg. 9901

Fort Bliss

El Paso Co: TX 79916-

Landholding Agency: Army

Property Number: 21200320079

Status: Unutilized

Reason: Extensive deterioration.

Virginia

4 Bldgs.

Fort Pickett

T2212, T2213, T2214, T2215

Blackstone Co: Nottoway VA 23824-

Landholding Agency: Army

Property Number: 21200320080

Status: Unutilized

Reason: Extensive deterioration.

5 Bldgs.

Fort Pickett

T2221, T2222, T2223, T2224, T2228

Blackstone Co: Nottoway VA 23824-

Landholding Agency: Army

Property Number: 21200320081

Status: Unutilized

Reason: Extensive deterioration.

Bldgs. T2602, T2619

Fort Pickett

Blackstone Co: Nottoway VA 23824-

Landholding Agency: Army

Property Number: 21200320082

Status: Unutilized

Reason: Extensive deterioration.

4 Bldgs.

Fort Pickett

T2640, T2641, T2645, T2651

Blackstone Co: Nottoway VA 23824-

Landholding Agency: Army

Property Number: 21200320083

Status: Unutilized

Reason: Extensive deterioration.

6 Bldgs.

Fort Pickett

T2800, T2801, T2803, T2808, T2809, T2810

Blackstone Co: Nottoway VA 23824-

Landholding Agency: Army

Property Number: 21200320084

Status: Unutilized

Reason: Extensive deterioration.

3 Bldgs.

Fort Pickett

T2824, T2830, T2831

Blackstone Co: Nottoway VA 23824-

Landholding Agency: Army

Property Number: 21200320085

Status: Unutilized

Reason: Extensive deterioration.

5 Bldgs.

Fort Pickett

T2832, T2834, T2835, T2839, T2840

Blackstone Co: Nottoway VA 23824-

Landholding Agency: Army

Property Number: 21200320086

Status: Unutilized

Reason: Extensive deterioration.

3 Bldgs.

Fort Pickett

T2843, T2844, T2845

Blackstone Co: Nottoway VA 23824-

Landholding Agency: Army

Property Number: 21200320087

Status: Unutilized

Reason: Extensive deterioration.

Bldg. T0113

Fort AP Hill

Bowling Green Co: VA 22427-

Landholding Agency: Army

Property Number: 21200320088

Status: Unutilized

Reason: Extensive deterioration.

Bldg. T0114

Fort AP Hill

Bowling Green Co: VA 22427-

Landholding Agency: Army

Property Number: 21200320089

Status: Unutilized

Reason: Extensive deterioration

Bldg. T0114

Fort AP Hill

Bowling Green Co: VA 22427-

Landholding Agency: Army

Property Number: 21200320090

Status: Unutilized

Reason: Extensive deterioration

Bldg. 584

Langley Air Force Base

Hampton Co: VA 23665-

Landholding Agency: GSA

Property Number: 54200320007

Status: Excess

Reason: Secured Area

GSA Number: 4-Z-VA-740-B

Bldg. 720

Langley Air Force Base

Hampton Co: VA 23665-

Landholding Agency: GSA

Property Number: 54200320008

Status: Excess

Reason: Secured Area

GSA Number: 4-Z-VA-740-A

Bldg. 1443/adj. bldg.

Norfolk Naval Shipyard

Portsmouth Co: VA 23704-

Landholding Agency: Navy

Property Number: 77200320018

Status: Excess

Reason: Extensive deterioration

Washington

Bldg. A1001

Fort Lewis

Ft. Lewis Co: Pierce WA 98443-

Landholding Agency: Army

Property Number: 21200320091

Status: Unutilized

Reason: Extensive deterioration

Bldg. 09778

Fort Lewis

Ft. Lewis Co: Pierce WA 98433-9500

Landholding Agency: Army

Property Number: 21200320092

Status: Unutilized

Reason: Extensive deterioration

Land (by State)

New Jersey

2.1 acres

Naval Weapons Station

Earle Co: NJ

Landholding Agency: Navy

Property Number: 77200320016

Status: Excess

Reason: Secured Area

[FR Doc. 03-10561 Filed 5-1-03; 8:45 am]

BILLING CODE 4210-29-M